DEPARTMENT OF COMMERCE

International Trade Administration

[A-549-820]

Prestressed Concrete Steel Wire Strand From Thailand: Preliminary Results of Antidumping Duty Administrative Review; 2021

AGENCY: Enforcement and Compliance, International Trade Administration, Department of Commerce.

SUMMARY: The U.S. Department of Commerce (Commerce) preliminarily determines that prestressed concrete steel wire strand (PC strand) from Thailand was sold in the United States at less than normal value (NV) during the period of review (POR) of January 1, 2021, through December 31, 2021. Interested parties are invited to comment on these preliminary results.

DATES: Applicable February 10, 2023.

FOR FURTHER INFORMATION CONTACT: Brian Smith or Samantha Kinney, AD/CVD Operations, Office VIII, Enforcement and Compliance, International Trade Administration, U.S. Department of Commerce, 1401 Constitution Avenue NW, Washington, DC 20230; telephone: (202) 482-1766 or (202) 482-2285, respectively.

SUPPLEMENTARY INFORMATION:

Background

On January 28, 2004, Commerce published the antidumping duty order on PC strand from Thailand.¹ On March 9, 2022, in accordance with 19 CFR 351.221(c)(i), Commerce initiated an administrative review of the Order, covering one producer/exporter, The Siam Industrial Wire Co., Ltd. (SIW).²

¹ See Notice of Amended Final Determination of Sales at Less Than Fair Value and Antidumping Duty Order: Prestressed Concrete Steel Wire Strand from Thailand, 69 FR 4111 (January 28, 2004) (Order).

² See Initiation of Antidumping and Countervailing Duty Administrative Reviews, 87 FR 13252 (March 9, 2022).

Pursuant to section 751(a)(3)(A) of the Tariff Act of 1930, as amended (the Act), on September 23, 2022, Commerce determined that it was not practicable to complete the preliminary results of this review within 245 days and extended the deadline for the preliminary results of this review until January 31, 2023.³

³ See Memorandum, “Extension of Deadline for Preliminary Results of Antidumping Duty Administrative Review; 2021,” dated September 23, 2022.

For a detailed description of the events that followed the initiation of this review, see the Preliminary Decision Memorandum.⁴ A list of topics discussed in the Preliminary Decision Memorandum is attached as an appendix to this notice. The Preliminary Decision Memorandum is a public document and is available via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Prestressed Concrete Steel Wire Strand from Thailand: Decision Memorandum for Preliminary Results of Antidumping Duty Administrative Review; 2021,” dated concurrently with, and hereby adopted by, this notice (Preliminary Decision Memorandum).

Scope of the Order

The merchandise covered by the Order is PC strand from Thailand. Products subject to the Order are currently classified in the Harmonized Tariff Schedule of the United States (HTSUS) subheadings 7312.10.3010 and 7312.10.3012. Although the HTSUS subheadings are provided for convenience and customs purposes, the written description of the merchandise subject to this scope is dispositive. For a complete description of the scope of the Order, see the Preliminary Decision Memorandum.

Methodology

Commerce is conducting this administrative review in accordance with section 751(a) of the Act. For a full description of the methodology underlying these preliminary results, see the Preliminary Decision Memorandum.

Preliminary Results of Review

We preliminarily determine the following weighted-average dumping margin exists for the period January 1, 2021, through December 31, 2021:

Exporter/producer | Weighted- average dumping margin (percent)
The Siam Industrial Wire Co., Ltd | 2.18

Disclosure and Public Comment

We intend to disclose the calculations performed for these preliminary results of review to interested parties with an administrative protective order within five days of the date of publication of the preliminary results in accordance with 19 CFR 351.224(b).

Pursuant to 19 CFR 351.309(c), interested parties may submit case briefs no later than 30 days after the date of publication of this notice. Rebuttal briefs, limited to issues raised in the case briefs, may be filed no later than seven days after the date for filing case briefs.⁵ Parties who submit case briefs or rebuttal briefs in this proceeding are encouraged to submit with each argument: (1) a statement of the issue; (2) a brief summary of the argument; and (3) a table of authorities.⁶ Case and rebuttal briefs should be filed using ACCESS.⁷

⁵ See 19 CFR 351.309(d)(1) and (2); see also Temporary Rule Modifying AD/CVD Service Requirements Due to COVID-19; Extension of Effective Period, 85 FR 41363 (July 10, 2020) (Temporary Rule).

⁶ See 19 CFR 351.309(c)(2) and (d)(2).

⁷ See 19 CFR 351.303(f).

Pursuant to 19 CFR 351.310(c), interested parties who wish to request a hearing must submit a written request to the Assistant Secretary for Enforcement and Compliance, U.S. Department of Commerce, filed electronically via ACCESS, within 30 days after the date of publication of this notice. Requests should contain: (1) the party's name, address, and telephone number; (2) the number of participants; and (3) a list of issues parties intend to discuss. Issues raised in the hearing will be limited to those raised in the respective case and rebuttal briefs. If a request for a hearing is made, Commerce intends to hold a hearing at a time and date to be determined.⁸ Parties should confirm the date, time, and location of the hearing two days before the scheduled date.

⁸ See 19 CFR 351.310(d).

An electronically filed document must be received successfully in its entirety by Commerce's electronic records system, ACCESS, by 5:00 p.m. Eastern Time on the date that the document is due. Note that Commerce has temporarily modified certain of its requirements for serving documents containing business proprietary information, until further notice.⁹

⁹ See Temporary Rule.

Commerce intends to issue the final results of this administrative review, including the results of its analysis of the issues raised in any case or rebuttal briefs, no later than 120 days after the date of publication of this notice, unless this deadline is extended.¹⁰

¹⁰ See section 751(a)(3)(A) of the Act; and 19 CFR 351.213(h).

Assessment Rates

Pursuant to section 751(a)(2)(A) of the Act and 19 CFR 351.212(b)(1), Commerce intends to determine, and U.S. Customs and Border Protection (CBP) shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

If SIW's weighted-average dumping margin is not zero or de minimis (i.e., less than 0.5 percent) in the final results of this review, and because SIW reported entered values for all of its sales, we intend to calculate importer-specific ad valorem assessment rates based on the ratio of the total amount of dumping calculated for each importer's examined sales to the total entered value of those sales, in accordance with 19 CFR 351.212(b)(1). We intend to instruct CBP to assess antidumping duties on all appropriate entries covered by this review when the importer-specific assessment rate calculated in the final results of this review is above de minimis (i.e., 0.50 percent). If SIW's overall weighted-average dumping margin is zero or de minimis or where an importer-specific ad valorem assessment rate is zero or de minimis, in the final results of review, we intend to instruct CBP to liquidate the appropriate entries without regard to antidumping duties.¹¹

¹¹ See 19 CFR 351.106(c)(2); see also Antidumping Proceeding: Calculation of the Weighted-Average Dumping Margin and Assessment Rate in Certain Antidumping Proceedings; Final Modification, 77 FR 8101, 8103 (February 14, 2012).

In accordance with Commerce's “automatic assessment” practice, for entries of subject merchandise during the POR produced by SIW for which it did not know that the merchandise was destined for the United States, we intend to instruct CBP to liquidate those entries at the all-others rate in the original less-than-fair-value (LTFV) investigation ¹² if there is no rate for the intermediate company(ies) involved in the transaction.¹³

¹² See Order, 69 FR at 4111.

¹³ For a full discussion of this practice, see Antidumping and Countervailing Duty Proceedings: Assessment of Antidumping Duties, 68 FR 23954 (May 6, 2003).

Cash Deposit Requirements

The following cash deposit requirements will be effective upon publication of the notice of final results of this administrative review for all shipments of the subject merchandise entered, or withdrawn from warehouse, for consumption on or after the date of publication, as provided by section 751(a)(2)(C) of the Act: (1) the cash deposit rate for SIW will be that established in the final results of this administrative review, except if the rate is less than 0.50 percent and, therefore, de minimis within the meaning of 19 CFR 351.106(c)(1), in which case the cash deposit rate will be zero; (2) for previously investigated companies not participating in this review, the cash deposit will continue to be the company-specific cash deposit rate published for the most recently completed segment of this proceeding in which the company participated; (3) if the exporter is not a firm covered in this review, a prior review, or the underlying investigation, but the producer is, then the cash deposit rate will be the rate established for the most recently completed segment of this proceeding for the producer of the merchandise; and (4) the cash deposit rate for all other producers or exporters will continue to be 12.91 percent, the all-others rate established in the LTFV investigation.¹⁴ These cash deposit requirements, when imposed, shall remain in effect until further notice.

¹⁴ See Order, 69 FR at 4111.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: January 31, 2023.
Lisa W. Wang,
Assistant Secretary for Enforcement and Compliance.

Appendix

List of Topics Discussed in the Preliminary Decision Memorandum

I. Summary

II. Background

III. Scope of the Order

IV. Discussion of the Methodology

V. Currency Conversion

VI. Recommendation

[FR Doc. 2023-02905 Filed 2-9-23; 8:45 am]

BILLING CODE 3510-DS-P